DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Federal Emergency Management Agency, Department of Homeland Security.

State and county | Location and case No. | Chief executive officer of community | Community map repository | Date of modification | Community No.
Arkansas:
Benton (FEMA Docket No.: B-2278) | City of Bella Vista (21-06-1411P) | The Honorable Peter A. Christie, Mayor, City of Bella Vista, P.O. Box 5655, Bella Vista, AR 72714 | Community Development Services Department, 616 West Lancashire Boulevard, Bella Vista, AR 72715 | Dec. 29, 2022 | 050511
Johnson (FEMA Docket No.: B-2278) | City of Clarksville (22-06-0649P) | The Honorable David Rieder, Mayor, City of Clarksville, 205 Walnut Street, Clarksville, AR 72830 | Public Works Department, 205 Walnut Street, Clarksville, AR 72830 | Dec. 29, 2022 | 050112
Johnson (FEMA Docket No.: B-2278) | Unincorporated areas of Johnson County (22-06-0649P) | The Honorable Herman H. Houston, Johnson County Judge, 215 West Main Street, Clarksville, AR 72830 | Johnson County Emergency Management Department, 215 West Main Street, Clarksville, AR 72830 | Dec. 29, 2022 | 050441
Colorado:
Douglas (FEMA Docket No.: B-2278) | Town of Castle Rock (21-08-1129P) | The Honorable Jason Gray, Mayor, Town of Castle Rock, 100 North Wilcox Street, Castle Rock, CO 80104 | Utilities Department, 175 Kellogg Court, Castle Rock, CO 80109 | Dec. 23, 2022 | 080050
Boulder (FEMA Docket No.: B-2284) | City of Lafayette (21-08-1058P) | The Honorable J.D. Mangat, Mayor, City of Lafayette, 1290 South Public Road, Lafayette, CO 80026 | City Hall, 1290 South Public Road, Lafayette, CO 80026 | Dec. 29, 2022 | 080026
Boulder (FEMA Docket No.: B-2284) | Unincorporated areas of Boulder County (21-08-1058P) | The Honorable Matt Jones, Chair, Boulder County Board of Commissioners, P.O. Box 471, Boulder, CO 80306 | Boulder County Transportation Department, 2525 13th Street, Suite 203, Boulder, CO 80304 | Dec. 29, 2022 | 080023
Broomfield (FEMA Docket No.: B-2278) | City and County of Broomfield (21-08-0961P) | The Honorable Guyleen Castriotta, Mayor, City and County of Broomfield, 1 DesCombes Drive, Broomfield, CO 80020 | Engineering Department, 1 DesCombes Drive, Broomfield, CO 80020 | Dec. 23, 2022 | 085073
El Paso (FEMA Docket No.: B-2274) | City of Colorado Springs (22-08-0015P) | The Honorable John Suthers, Mayor, City of Colorado Springs, 30 South Nevada Avenue, Colorado Springs, CO 80903 | City Hall, 30 South Nevada Avenue, Colorado Springs, CO 80903 | Dec. 19, 2022 | 080060
Jefferson (FEMA Docket No.: B-2278) | City of Lakewood (22-08-0288P) | The Honorable Adam Paul, Mayor, City of Lakewood, 480 South Allison Parkway, Lakewood, CO 80226 | Public Works Department, 480 South Allison Parkway, Lakewood, CO 80226 | Jan. 6, 2023 | 085075
Jefferson (FEMA Docket No.: B-2278) | City of Westminster (21-08-0961P) | The Honorable Nancy McNally, Mayor, City of Westminster, 4800 West 92nd Avenue, Westminster, CO 80031 | City Hall, 4800 West 92nd Avenue, Westminster, CO 80031 | Dec. 23, 2022 | 080008
Weld (FEMA Docket No.: B-2284) | Unincorporated areas of Weld County (21-08-1198P) | The Honorable Scott James, Chair, Weld County Board of Commissioners, P.O. Box 758, Greeley, CO 80632 | Weld County Commissioner's Office, 1150 O Street, Greeley, CO 80631 | Jan. 9, 2023 | 080266
Florida:
Lee (FEMA Docket No.: B-2284) | Unincorporated areas of Lee County (22-04-1445P) | Roger Desjarlais, Manager, Lee County, 2120 Main Street, Fort Myers, FL 33901 | Lee County Building Department, 1500 Monroe Street, Fort Myers, FL 33901 | Jan. 5, 2023 | 125124
Manatee (FEMA Docket No.: B-2284) | Unincorporated areas of Manatee County (22-04-0251P) | Scott Hopes, Manatee County Administrator, 1112 Manatee Avenue West, Bradenton, FL 34205 | Manatee County Development Services Department, 1112 Manatee Avenue West, Bradenton, FL 34205 | Jan. 3, 2023 | 120153
Monroe (FEMA Docket No.: B-2284) | Unincorporated areas of Monroe County (22-04-3484P) | The Honorable David Rice, Mayor, Monroe County Board of Commissioners, 9400 Overseas Highway, Suite 210, Marathon, FL 33050 | Monroe County Building Department, 2798 Overseas Highway, Suite 300, Marathon, FL 33050 | Jan. 3, 2023 | 125129
Monroe (FEMA Docket No.: B-2278) | Unincorporated areas of Monroe County (22-04-4391P) | The Honorable David Rice, Mayor, Monroe County Board of Commissioners, 9400 Overseas Highway, Suite 210, Marathon, FL 33050 | Monroe County Building Department, 2798 Overseas Highway, Suite 300, Marathon, FL 33050 | Jan. 3, 2023 | 125129
Monroe (FEMA Docket No.: B-2291) | Village of Islamorada (22-04-2883P) | The Honorable Pete Bacheler, Mayor, Village of Islamorada, 86800 Overseas Highway, Islamorada, FL 33036 | Building Department, 86800 Overseas Highway, Islamorada, FL 33036 | Jan. 3, 2023 | 120424
Pasco (FEMA Docket No.: B-2274) | Unincorporated areas of Pasco County (22-04-3661P) | The Honorable Kathryn Starkey, Chair, Pasco County Board of Commissioners, 37918 Meridian Avenue, Dade City, FL 33525 | Pasco County Building Construction Services Department, 8731 Citizens Drive, Suite 230, New Port Richey, FL 34654 | Dec. 15, 2022 | 120230
Polk (FEMA Docket No.: B-2278) | City of Lakeland (21-04-5786P) | Shawn Sherrouse, Manager, City of Lakeland, 228 South Massachusetts Avenue, Lakeland, FL 33801 | Public Works Department, 407 Fairway Avenue, Lakeland, FL 33801 | Dec. 15, 2022 | 120267
Polk (FEMA Docket No.: B-2274) | Unincorporated areas of Polk County (22-04-1908P) | Bill Beasley, Manager, Polk County, 330 West Church Street, Bartow, FL 33831 | Polk County Land Development Division, 330 West Church Street, Bartow, FL 33831 | Dec. 22, 2022 | 120261
Sarasota (FEMA Docket No.: B-2278) | City of Sarasota (22-04-2923P) | The Honorable Erik Arroyo, Mayor, City of Sarasota, 1565 1st Street, Room 101, Sarasota, FL 34236 | Development Services Department, 1565 1st Street, Sarasota, FL 34236 | Dec. 23, 2022 | 125150
Georgia: Richmond (FEMA Docket No.: B-2278) | City of Augusta (21-04-1504P) | The Honorable Hardie Davis, Jr., Mayor, Augusta-Richmond County, 535 Telfair Street, Suite 200, Augusta, GA 30901 | Development Services Department, 535 Telfair Street, Suite 300, Augusta, GA 30901 | Dec. 20, 2022 | 130158
New Mexico: Dona Ana (FEMA Docket No.: B-2278) | City of Las Cruces (21-06-3382P) | The Honorable Ken Miyagishima, Mayor, City of Las Cruces, 700 North Main Street, Las Cruces, NM 88001 | City Hall, 700 North Main Street, Las Cruces, NM 88001 | Dec. 29, 2022 | 355332
North Carolina:
Wake (FEMA Docket No.: B-2268) | Town of Fuquay-Varina (21-04-4032P) | The Honorable Blake Massengill, Mayor, Town of Fuquay-Varina, 134 North Main Street, Fuquay-Varina, NC 27526 | Engineering Department, 134 North Main Street, Fuquay-Varina, NC 27526 | Aug. 30, 2022 | 370239
Wake (FEMA Docket No.: B-2268) | Unincorporated areas of Wake County (21-04-4032P) | The Honorable Sig Hutchinson, Chair, Wake County Board of Commissioners, P.O. Box 550, Raleigh, NC 27602 | Wake County Environmental Services Department, 337 South Salisbury Street, Raleigh, NC 27601 | Aug. 30, 2022 | 370368
North Dakota: Burleigh (FEMA Docket No.: B-2274) | City of Bismarck (21-08-1169P) | The Honorable Michael T. Schmitz, Mayor, City of Bismarck, P.O. Box 5503, Bismarck, ND 58506 | City Hall, 221 North 5th Street, Bismarck, ND 58501 | Dec. 13, 2022 | 380149
Oklahoma:
Cleveland (FEMA Docket No.: B-2278) | City of Moore (22-06-0605P) | Brooks Mitchell, Manager, City of Moore, 301 North Broadway Avenue, Moore, OK 73160 | City Hall, 301 North Broadway Avenue, Moore, OK 73160 | Dec. 27, 2022 | 400044
Cleveland (FEMA Docket No.: B-2278) | City of Norman (22-06-0605P) | The Honorable Larry Heikkila, Mayor, City of Norman, P.O. Box 370, Norman, OK 73070 | Public Works Department, 201 West Gray, Building A, Norman, OK 73069 | Dec. 27, 2022 | 400046
Grady (FEMA Docket No.: B-2284) | City of Chickasha (22-06-1362P) | The Honorable Chris Mosley, Mayor, City of Chickasha, 117 North 4th Street, Chickasha, OK 73018 | Community Development Department, 117 North 4th Street, Chickasha, OK 73018 | Jan. 6, 2023 | 400234
South Carolina:
Greenville (FEMA Docket No.: B-2278) | Unincorporated areas of Greenville County (22-04-1462P) | The Honorable Butch Kirven, Chair, Greenville County Council, 301 University Ridge, Suite 2400, Greenville, SC 29601 | Greenville County Floodplain Management Department, 301 University Ridge, Suite 4100, Greenville, SC 29601 | Dec. 28, 2022 | 450089
Horry (FEMA Docket No.: B-2278) | Unincorporated areas of Horry County (22-04-0406P) | The Honorable Johnny Gardner, Chair, Horry County Council, P.O. Box 1236, Conway, SC 29528 | Horry County Stormwater Department, 4401 Privetts Road, Conway, SC 29526 | Dec. 30, 2022 | 450104
Richland (FEMA Docket No.: B-2284) | Unincorporated areas of Richland County (22-04-1306P) | The Honorable Paul Livingston, Chair, Richland County Council, 2308 Park Street, Columbia, SC 29201 | Richland County Floodplain Management Department, 2020 Hampton Street, 1st Floor, Columbia, SC 29204 | Dec. 19, 2022 | 450170
Tennessee: Sumner (FEMA Docket No.: B-2278) | Unincorporated areas of Sumner County (22-04-4446P) | The Honorable Anthony Holt, Sumner County Executive, 355 North Belvedere Drive, Room 102, Gallatin, TN 37066 | Sumner County Administration Building, 355 North Belvedere Drive, Room 102, Gallatin, TN 37066 | Dec. 16, 2022 | 470349
Texas:
Bexar | City of San Antonio (21-06-3257P) | The Honorable Ron Nirenberg, Mayor, City of San Antonio, P.O. Box 839966, San Antonio, TX 78283 | Transportation and Capitol Improvements Department, Storm Water Division, 1901 South Alamo Street, 2nd Floor, San Antonio, TX 78204 | Jan. 9, 2023 | 480045
Bexar (FEMA Docket No.: B-2284) | City of San Antonio (22-06-1766P) | The Honorable Ron Nirenberg, Mayor, City of San Antonio, P.O. Box 839966, San Antonio, TX 78283 | Transportation and Capitol Improvements Department, Storm Water Division, 1901 South Alamo Street, 2nd Floor, San Antonio, TX 78204 | Dec. 19, 2022 | 480045
Bexar (FEMA Docket No.: B-2284) | Unincorporated areas of Bexar County (22-06-0468P) | The Honorable Nelson W. Wolff, Bexar County Judge, 101 West Nueva Street, 10th Floor, San Antonio, TX 78205 | Bexar County Public Works Department, 1948 Probandt Street, San Antonio, TX 78214 | Jan. 3, 2023 | 480035
Bexar (FEMA Docket No.: B-2284) | Unincorporated areas of Bexar County (22-06-1766P) | The Honorable Nelson W. Wolff, Bexar County Judge, 101 West Nueva Street, 10th Floor, San Antonio, TX 78205 | Bexar County Public Works Department, 1948 Probandt Street, San Antonio, TX 78214 | Dec. 19, 2022 | 480035
Collin (FEMA Docket, No.: B-2278 | City of McKinney (22-06-1326P) | The Honorable George Fuller, Mayor, City of McKinney, P.O. Box 517, McKinney, TX 75070 | Engineering Department, 221 North Tennessee Street, McKinney, TX 75069 | Jan. 3, 2023 | 480135
Comal (FEMA Docket No.: B-2284) | Unincorporated areas of Comal County (22-06-0468P) | The Honorable Sherman Krause, Comal County Judge, 100 Main Plaza, New Braunfels, TX 78130 | Comal County Engineering Department, 195 David Jonas Drive, New Braunfels, TX 78132 | Jan. 3, 2023 | 485463
Dallas (FEMA Docket No.: B-2284) | City of Garland (22-06-0786P) | The Honorable Scott LeMay, Mayor, City of Garland, P.O. Box 469002, Garland, TX 75046 | Engineering Department, 800 Main Street, 3rd Floor, Garland, TX 75040 | Jan. 3, 2023 | 485471
McLennan (FEMA Docket No.: B-2278) | City of Woodway (21-06-3394P) | The Honorable Amine Qourzal, Mayor, City of Woodway, 922 Estates Drive, Woodway, TX 76712 | Community Services and Development Department, 922 Estates Drive, Woodway, TX 76712 | Dec. 20, 2022 | 480462
Tarrant (FEMA Docket No.: B-2278) | City of Fort Worth (22-06-0428P) | The Honorable Mattie Parker, Mayor, City of Fort Worth, 200 Texas Street, Fort Worth, TX 76102 | Transportation and Public Works Department, 200 Texas Street, Fort Worth, TX 76102 | Dec. 15, 2022 | 480596
Virginia:
Hanover (FEMA Docket No.: B-2278) | Unincorporated areas of Hanover County (22-03-0601P) | John A. Budesky, Hanover County Administrator, P.O. Box 470, Hanover, VA 23069 | Hanover County Public Works Department, 7516 County Complex Road, Hanover, VA 23069 | Dec. 27, 2022 | 510237
Loudoun (FEMA Docket No.: B-22) | Unincorporated areas of Loudoun County (22-03-0311P) | Tim Hemstreet, Loudoun County Administrator, 1 Harrison Street Southeast, 5th Floor, Leesburg, VA 20175 | Loudoun County Government Center, 1 Harrison Street Southeast, 3rd Floor, Leesburg, VA 20175 | Dec. 19, 2022 | 510090

[FR Doc. 2023-01890 Filed 1-30-23; 8:45 am]

BILLING CODE 9110-12-P